ENVIRONMENTAL PROTECTION AGENCY

[EPA-HQ-OPP-2008-0653; FRL-8383-4]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period April 1, 2008 through June 30, 2008, to control unforeseen pest outbreaks.

FOR FURTHER INFORMATION CONTACT: See each emergency exemption for the name of a contact person. The following information applies to all contact persons: Team Leader, Emergency Response Team, Registration Division (7505P), Office of Pesticide Programs, Environmental Protection Agency, 1200 Pennsylvania Ave., NW., Washington, DC 20460-0001; telephone number: (703) 308-9366.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the emergency exemption of interest.

B. How Can I Get Copies of this Document and Other Related Information?

1. Docket. EPA has established a docket for this action under docket identification (ID) number EPA-HQ-OPP-2008-0653. Publicly available docket materials are available either electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

EPA has granted emergency exemptions to the following State and Federal agencies. The emergency exemptions may take the following form: Crisis, public health, quarantine, or specific.

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of emergency exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, number of acres (if applicable), and the duration of the exemption. EPA also gives the Federal Register citation for the time-limited tolerance, if any.

III. Emergency Exemptions: U.S. States and Territories

Arkansas

State Plant Board

Crisis: On June 5, 2008, for the use of imazethapyr on rice to control weeds (red rice). This program ended on July 20, 2008. Contact: Andrew Ertman.

California

Environmental Protection Agency, Department of Pesticide Regulation

Crisis: On May 15, 2008, for the use difenoconazole on almonds to control Alternaria leaf spot. This program ended on June 20, 2008. Contact: Stacey Groce.

Specific exemption: EPA authorized the use of lavanduly senecioate on raisin, wine, and table grapes to control the vine mealybug; April 9, 2008 to September 30, 2008. Contact: Andrew Ertman.

EPA authorized the use of propiconazole on peaches and nectarines to control sour rot; April 15, 2008 to September 30, 2008. Contact: Andrea Conrath.

Quarantine: EPA authorized the use of environ LpH (containing the active ingredients ortho-benzyl-para-chlorophenol, para-tertiary-amylphenol, and ortho-phenylphenol) in government laboratories to disinfect surfaces potentially contaminated with prions; March 26, 2008 to March 26, 2011. Contact: Princess Campbell.

Colorado

Department of Agriculture

Specific exemption: EPA authorized the use of acibenzolar on onions to control iris yellow spot virus; April 2, 2008 to September 1, 2008. Contact: Andrew Ertman.

EPA authorized the use of formetanate hydrochloride on dry bulb onions to control thrips; April 17, 2008 to September 30, 2008. Contact: Andrew Ertman.

Florida

Department of Agriculture and Consumer Services

Crisis: On April 18, 2008, for the use of metconazole on sugarcane to control orange rust (Puccinia kuehnii). This program is expected to end on June 30, 2011. Contact: Libby Pemberton.

On April 18, 2008, for the use of pyraclostrobin on sugarcane to control orange rust (Puccinia kuehnii). This program is expected to end on June 30, 2011. Contact: Libby Pemberton.

Specific exemption: EPA authorized the use of thiophanate-methyl on vegetable, fruiting, group 8 to control white mold; April 24, 2008 to December 31, 2008. Contact: Andrea Conrath.

Georgia

Department of Agriculture

Crisis: On May 13, 2008, for the use of difenoconazole on cantaloupe, cucumber, and watermelon to control gummy stem blight. This program ended on June 30, 2008. Contact: Stacey Groce.

Idaho

Department of Agriculture

Specific exemption: EPA authorized the use of formetanate hydrochloride on dry bulb onions to control thrips; April 17, 2008 to September 15, 2008. Contact: Andrew Ertman.

EPA authorized the use of linuron on lentil to control dog fennel and prickly lettuce; April 17, 2008 to June 10, 2008. Contact: Andrea Conrath.

Iowa

Department of Agriculture and Land Stewardship

Specific exemption: EPA authorized the use of sulfentrazone on strawberry to control broadleaf weeds; April 29, 2008 to June 10, 2008. Contact: Andrew Ertman.

Kentucky

Department of Agriculture

Crisis: On April 30, 2008, for the use of tebuconazole on wheat to control Fusarium head blight (FHB). This program ended on May 15, 2008. Contact: Libby Pemberton.

On June 6, 2008, for the use of diquat dibromide as a desiccant on canola. This program ended on June 20, 2008. Contact: Libby Pemberton.

Louisiana

Department of Agriculture and Forestry

Crisis: On June 5, 2008, for the use of imazethapyr on clearfield rice to control red rice. This program ended on June 19, 2008. Contact: Andrew Ertman.

On June 23, 2008, for the use of methoxyfenozide on sorghum to control southwestern corn borer and sugarcane borer. The program ended September 15, 2008. Contact: Stacey Groce.

Specific exemption: EPA authorized the use of pyraclostrobin on sugarcane to control brown rust (Puccinia melanocephala); April 29, 2008 to June 30, 2008. Contact: Libby Pemberton.

Michigan

Michigan Department of Agriculture

Specific exemption: EPA authorized the use of chlorothalonil on ginseng to control botrytis and alternaria blight; April 15, 2008 to October 31, 2008. Contact: Stacey Groce.

EPA authorized the use of mancozeb on ginseng to control alternaria blight; April 15, 2008 to October 31, 2008. Contact: Stacey Groce.

EPA authorized the use of zoxamide on ginseng to control phytophthora blight; April 15, 2008 to October 31, 2008. Contact: Stacey Groce.

EPA authorized the use of formetanate hydrochloride on dry bulb onions to control thrips; April 17, 2008 to August 31, 2008. Contact: Andrew Ertman.

EPA authorized the use of anthraquinone on corn, field and sweet seed to repel sandhill cranes; April 18, 2008 to July 30, 2008. Contact: Marcel Howard.

EPA authorized the use of gentamicin on apples to control fire blight; April 24, 2008 to May 31, 2008. Contact: Andrew Ertman.

EPA authorized the use of tebuconazole on asparagus to control rust (Puccinia species (spp.)); May 30, 2008 to November 1, 2008. Contact: Libby Pemberton.

EPA authorized the use of sulfentrazone on strawberries to control broadleaf weeds; June 25, 2008 to December 15, 2008. Contact: Andrew Ertman.

Mississippi

Department of Agriculture and Commerce

Crisis: On June 5, 2008, for the use of imazethapyr on clearfield rice to control red rice. This program ended on June 19, 2008. Contact: Andrew Ertman.

Missouri

Department of Agriculture

Crisis: On June 5, 2008, for the use of imazethapyr on clearfield rice to control red rice. This program ended on June 19, 2008. Contact: Andrew Ertman.

New Jersey

Department of Environmental Protection

Specific exemption: EPA authorized the use of thiophanate methyl on tomato to control white mold; April 24, 2008 to October 31, 2008. Contact: Andrea Conrath.

New York

Department of Environmental Conservation

Specific exemption: EPA authorized the use of formetanate hydrochloride on dry bulb onions to control thrips; April 17, 2008 to September 15, 2008. Contact: Andrew Ertman.

North Dakota

Department of Agriculture

Specific exemption: EPA authorized the use of sulfentrazone on flax to control kochia; April 15, 2008 to June 30, 2008. Contact: Andrew Ertman.

Ohio

Department of Agriculture

Specific exemption: EPA authorized the use of formetanate hydrochloride on dry bulb onions to control thrips; April 17, 2008 to September 15, 2008. Contact: Andrew Ertman.

EPA authorized the use of thiophanate methyl on vegetable, fruiting, group 8 to control white mold; April 24, 2008 to November 18, 2008. Contact: Andrea Conrath.

EPA authorized the use of sulfentrazone on strawberries to control broadleaf weeds; June 20, 2008 to December 15, 2008. Contact: Andrew Ertman.

Oklahoma

Department of Agriculture

Crisis: On June 9, 2008, for the use of diquat dibromide as a desiccant on canola. This program ended on June 23, 2008. Contact: Libby Pemberton.

Oregon

Department of Agriculture

Crisis: On June 30, 2008, for the use of diflubenzuron on alfafa grown for hay, mixed grass/alfalfa hay, and grasses grown for seed to control grasshoppers and Mormon crickets. This program ended on July 15, 2008. Contact: Libby Pemberton.

Specific exemption: EPA authorized the use of bifenthrin on orchardgrass to control orchardgrass billbug; April 3, 2008 to November 15, 2008. Contact: Andrea Conrath.

EPA authorized the use of fipronil on turnip and rutabaga to control cabbage maggot; April 10, 2008 to September 30, 2008. Contact: Andrea Conrath.

EPA authorized the use of formetanate hydrochloride on dry bulb onions to control thrips; April 17, 2008 to September 15, 2008. Contact: Andrew Ertman.

South Dakota

Department of Agriculture

Crisis: On April 10, 2008, for the use of anthraquinone on corn, field and sweet seed to repel ring-necked pheasant. This program ended on July 1, 2008. Contact: Marcel Howard.

Tennessee

Department of Agriculture

Crisis: On March 1, 2008, for the use of anthraquinone on corn, field and sweet seed to repel blackbird species and grackle. This program ended on July 30, 2008. Contact: Marcel Howard.

Texas

Department of Agriculture

Crisis: On June 5, 2008, for the use of imazethapyr on clearfield rice to control red rice. This program ended on July 20, 2008. Contact: Andrew Ertman.

On June 16, 2008, for the use of dinotefuran on rice to control rice stink bug. This program is expected to end on October 30, 2008. Contact: Libby Pemberton.

On June 27, 2008, for the use of fipronil up to ten feet out and three feet up on outdoor structures to control Caribbean crazy ant. This program is expected to end on September 1, 2011. Contact: Andrea Conrath.

Specific exemption: EPA authorized the use of hexythiazox on field corn to control the bank grass mite and two-spotted spider mite; May 15, 2008 to August 31, 2008. Contact: Andrew Ertman.

Washington

Department of Agriculture

Specific exemption: EPA authorized the use of formetanate hydrochloride on dry bulb onions to control thrips; April 17, 2008 to August 30, 2008. Contact: Andrew Ertman.

EPA authorized the use of linuron on lentils to control dog fennel and prickly lettuce; April 17, 2008 to June 10, 2008. Contact: Andrea Conrath.

Wisconsin

Department of Agriculture, Trade, and Consumer Protection

Specific exemption: EPA authorized the use of formetanate hydrochloride on dry bulb onions to control thrips; April 17, 2008 to September 15, 2008. Contact: Andrew Ertman.

EPA authorized the use of chlorothalonil on ginseng to control botrytis and alternaria blight; April 22, 2008 to October 31, 2008. Contact: Stacey Groce.

EPA authorized the use of mancozeb on ginseng to control alternaria blight; April 22, 2008 to October 31, 2008. Contact: Stacey Groce.

EPA authorized the use of zoxamide on ginseng to control phytophthora blight; April 22, 2008 to October 31, 2008. Contact: Stacey Groce.

IV. Federal Departments and Agencies

Agriculture Department

Animal and Plant Health Inspector Service

Crisis: On March 3, 2008, for the use of methyl bromide on various imported raw agricultural commodities to control exotic plant pests. This program is expected to end on March 3, 2009. Contact: Libby Pemberton.

Quarantine: EPA authorized the use of E-11-tetradecen-1-yl acetate and E,E-9,11-tetradecadien-1-yl acetate on all raw agricultural commodities, and residential areas to control the light brown apple moth; April 15, 2008, to April 15, 2011. Contact: Andrew Ertman.

List of Subjects

Environmental protection, Pesticides and pests.

Dated: September 30, 2008.
Donald R. Stubbs,
Acting Director, Registration Division, Office of Pesticide Programs.

[FR Doc. E8-24270 Filed 10-14-08; 8:45 am]

BILLING CODE 6560-50-S